CORPORATION FOR NATIONAL AND COMMUNITY SERVICE

Sunshine Act Meeting Notice

The National Civilian Community Corps Advisory Board gives notice of the following meeting:

DATE AND TIME: Tuesday, December 7, 2010, 2 p.m.-3 p.m.

PLACE: Conference room #8312, 8th floor, Corporation for National and Community Service Headquarters, 1201 New York Avenue, NW., Washington, DC 20525.

STATUS: Open.

MATTERS TO BE CONSIDERED:

I. Meeting Convenes

II. Approval of Minutes

III. Director's Report

IV. Committee Reports:

• Projects and Partnership Committee

• Member Services Committee

• Policy and Operations Committee

V. Public Comment

Accommodations: Anyone who needs an interpreter or other accommodation should notify the Corporation's contact person by 5 p.m. Friday, December 3, 2010.

CONTACT PERSON FOR MORE INFORMATION: Erma Hodge, NCCC, Corporation for National and Community Service, 9th Floor, Room 9802B, 1201 New York Avenue, NW., Washington, DC 20525. Phone (202) 606-6696. Fax (202) 606-3459. TDD: (202) 606-3472. E-mail: ehodge@cns.gov.

Dated: November 26, 2010.
Thomas L. Bryant,
Acting General Counsel.

[FR Doc. 2010-30287 Filed 11-29-10; 4:15 pm]

BILLING CODE 6050-$$-P